DEPARTMENT OF THE INTERIOR

Bureau of Land Management

[UT-110-1610-029J]

Notice of Availability of the Kanab Field Office Proposed Resource Management Plan and Final Environmental Impact Statement (PRMP/FEIS)

AGENCY: Bureau of Land Management, Interior.

ACTION: Notice of availability.

SUMMARY: In accordance with the National Environmental Policy Act of 1969 and the Federal Land Policy and Management Act of 1976, the Bureau of Land Management (BLM) has prepared a Proposed Resource Management Plan/Final Environmental Impact Statement (PRMP/FEIS) for the Kanab Field Office.

DATES: The BLM planning regulations (43 CFR 1610.5-2) state that any person who meets the conditions as described in the regulations may protest the BLM's PRMP/FEIS. A person who meets the conditions and files a protest must file the protest within 30 days of the date that the Environmental Protection Agency publishes this notice in the Federal Register.

ADDRESSES: Copies of the Kanab Field Office PRMP/FEIS were sent to affected Federal, state, and local government agencies and to interested parties. Copies of the PRMP/FEIS are available for public inspection at:

Kanab Field Office, 318 East 100 North, Kanab, UT 84741

Utah State Office, 440 West 200 South, Salt Lake City, UT 84145

Interested persons may also review the PRMP/FEIS on the Internet at http://www.blm.gov/ut/st/en/fo/kanab/planning.html. All protests must be in writing and mailed to the following addresses:

Regular Mail: BLM Director (210), Attention: Brenda Hudgens-Williams, P.O. Box 66538, Washington, DC 20035

Overnight Mail: BLM Director (210), Attention: Brenda Hudgens-Williams, 1620 L Street, NW., Suite 1075, Washington, DC 20036

FOR FURTHER INFORMATION, CONTACT: Keith Rigtrup, Kanab Field Office, 318 East 100 North, Kanab, UT 84741; phone: (435) 644-4600; or e-mail at: Keith_Rigtrup@blm.gov.

SUPPLEMENTARY INFORMATION: The Kanab RMP planning area is located in south-central Utah. The BLM administers approximately 0.6 million acres of surface estate and 0.7 million acres of Federal mineral estate within the planning area.

The Kanab RMP will provide future broad-scale management direction for land use allocations and allowable uses on public lands within the planning area. Implementation of the decisions of the PRMP/FEIS would apply only to BLM-administered public lands and Federal mineral estate. In the Kanab Field Office Draft RMP/EIS (DRMP/DEIS), which was released for a 90-day public review and comment period in October 2007, four alternatives were analyzed, including a No Action alternative. These alternatives were developed through issue identification during the scoping process. Such issues included: non-WSA lands with wilderness characteristics, recreation, transportation, minerals and energy resources, ACECs, and WSAs.

The PRMP/FEIS would designate no new Areas of Critical Environmental Concern (ACECs), and the continuation of one existing ACEC, totaling 3,800 acres. Resource use limitations that apply to the proposed ACECs include a range of different prescriptions as described in Table 1 below.

Table 1.—Evaluation of Areas of Critical Environmental Concern
Area name | Values of concern | Resource use limitations | Acres
Cottonwood Canyon | Scenic, Cultural, Hazard/Safety/Public Welfare | • VRM Class II • OHV limited to designated routes. • Open to oil and gas leasing subject to No Surface Occupancy. | 3,800
|  | • Closed to mineral material
|  | • Recommend withdrawal from mineral entry
|  | • Close the Water Canyon allotment (48 AUMs) to livestock grazing for the life of the plan

Comments on Kanab Field Office the DRMP/DEIS received from the public and internal BLM review were considered and incorporated as appropriate into the PRMP/FEIS. Public comments resulted in the addition of clarifying text, but did not significantly change proposed land use plan decisions.

Instructions for filing a protest with the Director of the BLM regarding the PRMP/FEIS may be found in the Dear Reader Letter of the PRMP/FEIS and at 43 CFR 1610.5-2. E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at 202-452-5112, and e-mails to Brenda_Hudgens-Williams@blm.gov.

All protests, including the follow-up letter (if e-mailing or faxing) must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Authority: 40 CFR 1506.6, 43 CFR 1610.2, 43 CFR 1610.5-1.

Dated: June 5, 2008.
Selma Sierra,
Utah State Director.

[FR Doc. E8-16359 Filed 7-17-08; 8:45 am]

BILLING CODE 4310-DQ-P